DEPARTMENT OF ENERGY

Federal Energy Regulatory Commission

Notice of Revised Restricted Service List for a Programmatic Agreement for Managing Properties Included in or Eligible for Inclusion in the National Register of Historic Places

Beverly Lock and Dam Water Power | Project No. 13404-002
Devola Lock and Dam Water Power Project | Project No. 13405-002
Malta/McConnelsville Lock and Dam Water Power Project | Project No. 13406-002
Lowell Lock and Dam Water Power Project | Project No. 13407-002
Philo Lock and Dam Water Power Project | Project No. 13408-002
Rokeby Lock and Dam Water Power Project | Project No. 13411-002

On September 10, 2015, the Federal Energy Regulatory Commission (Commission) issued notice of a proposed restricted service list for the preparation of a programmatic agreement for managing properties included in, or eligible for inclusion in, the National Register of Historic Places at each of the following proposed projects: (1) Beverly Lock & Dam Water Power Project No. 13404; (2) Devola Lock & Dam Water Power Project No. 13405; (3) Malta Lock & Dam Water Power Project No. 13406; (4) Lowell Lock & Dam Water Power Project No. 13407; (5) Philo Lock & Dam Water Power Project No. 13408; (6) and Rokeby Lock & Dam Water Power Project No. 13411. Rule 2010(d)(1) of the Commission's Rules of Practice and Procedure, 18 CFR 385.2010(d)(1) (2014), provides for the establishment of such a list for a particular phase or issue in a proceeding to eliminate unnecessary expense or improve administrative efficiency. Under Rule 385.2010(d)(4), persons on the official service list are to be given notice of any proposal to establish a restricted service list and an opportunity to show why they should also be included on the restricted service list or why a restricted service list should not be established.

On October 29, 2015, Valincia Darby, Regional Environmental Protection Assistant for the Department of the Interior, requested to be added to the restricted service list and be included as a consulting party in the section 106 of the National Historic Preservation Act consultation process so that she may stay apprised and provide project input.

Under Rule 385.2010(d)(2), any restricted service list will contain the names of each person on the official service list, or the person's representative, who, in the judgment of the decisional authority establishing the list, is an active participant with respect to the phase or issue in the proceeding for which the list is established. Valincia Darby has identified an interest in issues relating to the management of historic properties at the Beverly Lock and Dam Water Power Project, Devola Lock and Dam Water Power Project, Malta/McConnelsville Lock and Dam Water Power Project, Lowell Lock and Dam Water Power Project, Philo Lock and Dam Water Power Project, and Rokeby Lock and Dam Water Power Project. Therefore, she and her representatives will be added to the restrictive service list.

Accordingly, the restricted service list issued on September 10, 2015, for Projects Nos. 13404, 13405, 12406, 13407, 13408, and 13411 is revised to add the following person: Valincia Darby or representative, Regional Environmental Protection Assistant, Department of the Interior, OEPC, 200 Chestnut Street, Rm 244, Philadelphia, PA 19106.

Dated: October 30, 2015.
Nathaniel J. Davis, Sr.,
Deputy Secretary.

[FR Doc. 2015-28202 Filed 11-4-15; 8:45 am]

BILLING CODE 6717-01-P